DEPARTMENT OF ENERGY

Federal Energy Regulatory Commission

[Docket No. CP00-447-000]

Distrigas of Massachusetts LLC; Notice of Site Visit

November 7, 2000.

On November 14, 2000, staff from the Office of Energy Projects (OEP) will conduct a pre-certification site visit of the proposed High Pressure Expansion Project at Distrigas of Massachusetts LLC's (DOMAC) existing liquefied natural gas storage facility in Everett, Massachusetts. Representatives of DOMAC will accompany the OEP staff.

All interested parties may attend the site visit. Those planning to attend must provide their own transportation. For further information on attending the site visit, please contact the Commission's Office of External Affairs at (202) 208-0004.

David P. Boergers,
Secretary.

[FR Doc. 00-29017 Filed 11-13-00; 8:45 am]

BILLING CODE 6717-01-M